DEPARTMENT OF THE INTERIOR

Bureau of Land Management

[NV-010-05-1020PH]

Notice of Public Meetings: Northeastern Great Basin Resource Advisory Council

AGENCY: Bureau of Land Management, Interior.

ACTION: Notice of Fiscal Year 2005 Meetings Locations and Times for the Northeastern Great Basin Resource Advisory Council (Nevada).

SUMMARY: In accordance with the Federal Land Policy and Management Act (FLPMA) and the Federal Advisory Committee Act of 1972 (FACA), the U.S. Department of the Interior, Bureau of Land Management (BLM) Nevada Northeastern Great Basin Resource Advisory Council (RAC), will meet as indicated below. Topics for discussion at each meeting will include, but are not limited to: January 28, 2005 (Reno, Nevada)—Ely Resource Management Plan, Water Resources Transportation Panel discussion, and Sage Grouse Status and Governor's Plan update; March 31, 2005 (Eureka, Nevada)—Ely Resource Management Plan follow-up, Wildland/Urban Interface Fire Projects, Elko Field Office Land Sale Parcels presentation, and Wind and Alternative Energy; May 20, 2005 (Elko, Nevada)—Elko Land Sales Parcels selection, Transportation Planning, and Off-Highway Vehicle; July 14 & 15, 2004 (Battle Mountain, Nevada)—Rangeland Health-Carrico Lake Tour and NEPA streamlining discussion. Managers’ reports of field office activities will be given at each meeting. The council may raise other topics at any of the four planned meetings.

DATES: The RAC will meet four times in Fiscal Year 2005: on January 28, 2005 at the BLM Nevada State Office, 1340 Financial Boulevard, Reno, Nevada; on March 31, 2005 at the Eureka Opera House, 31 South Main, Eureka, Nevada; on May 20, 2004 at the BLM Elko Field Office, 3900 East Idaho Street, Elko, Nevada; and on July 14 & 15, 2004 at the BLM Battle Mountain Field Office, 50 Bastian Road, Battle Mountain, Nevada. All meetings are open to the public. Each meeting will last from 9 a.m. to 5 p.m. and will include a general public comment period, where the public may submit oral or written comments to the RAC. Each public comment period will begin at approximately 1 p.m. unless otherwise listed in each specific, final meeting agenda.

Final detailed agendas, with any additions/corrections to agenda topics, locations, field trips and meeting times, will be available on the Internet at least 14 days before each meeting, at http://www.nv.blm.gov/rac; hard copies can also be mailed or sent via FAX. Individuals who need special assistance such as sign language interpretation or other reasonable accommodations, or who wish a hard copy of each agenda, should contact Mike Brown, Elko Field Office, 3900 East Idaho Street, Elko, Nevada 89801, telephone (775) 753-0386 no later than 10 days prior to each meeting.

FOR FURTHER INFORMATION CONTACT: Mike Brown, Public Affairs Officer, Elko Field Office, 3900 E. Idaho Street, Elko, NV 89801. Telephone: (775) 753-0386. E-mail: mbrown@nv.blm.gov.

SUPPLEMENTARY INFORMATION: The 15-member Council advises the Secretary of the Interior, through the Bureau of Land Management (BLM), on a variety of planning and management issues associated with public land management in Nevada. All meetings are open to the public. The public may present written comments to the Northeastern Great Basin Resource Advisory Council.

Dated: November 5, 2004.
Helen M. Hankins,
Field Manager.

[FR Doc. 04-25366 Filed 11-15-04; 8:45 am]

BILLING CODE 4310-HC-P